DEPARTMENT OF JUSTICE

Antitrust Division

Notice Pursuant to the National Cooperative Research and Production Act of 1993—J Consotrium, Inc.

Notice is hereby given that, on April 20, 2000, pursuant to Section 6(a) of the National Cooperative Research and Production Act of 1993, 15 U.S.C. 4301 et seq. (“the Act”), J Consotrium, Inc. has filed written notifications similtaneously with the Attorney General and the Federal Trade Commission disclosing changes in its membership status. The notifications were filed for the purpose of extending the Act's provisions limiting the recovery of antitrust plaintiffs to actual damages under specified circumstances. Specifically, E-SIM, San Diego, CA; Bull Smart Cards and Terminals, Foster City, CA; and UK Ministry of Defence, Weymouth, United Kingdom have been added as parties to this venture.

No other changes have been made in either the membership or planned activity of the group research project. Membership in this group research project remains open, and J Consortium, Inc. intends to file additional written notification disclosing all changes in membership.

On August 9, 1999, J Consortium, Inc. filed its original notification pursuant to Section 6(a) of the Act. The Department of Justice published a notice in the Federal Register pursuant to Section 6(b) of the Act on March 21, 2000 (65 FR 15175).

The last notification was filed with the Department on January 20, 2000. A notice was published in the Federal Register pursuant to Section 6(b) of the Act on June 21, 2000 (65 FR 38596).

Constance K. Robinson,
Director of Operations, Antitrust Division.

Joint Venture Worksheet

(Supplemental Filings Only)

A. Name of venture: J. Consortium, Inc.

Nature of notification: Supplemental

Concise statement of purpose (if purpose has changed): Same as before—no changes.

B. For ventures involving research and development only:

Identity of parties added to venture:

1. E-SIM, San Diego, CA

2. Bull Smart Cards and Terminals, Foster City, CA

3. UK Ministry of Defence, Weymouth, UNITED KINGDOM

Identity of parties dropped from venture:

C. For ventures involving production:

Identity and nationality of parties to joint production venture:

Identity | Nationality | Place of incorporation | Location of principal executive offices

[FR Doc. 00-19386 Filed 7-31-00; 8:45 am]

BILLING CODE 4410-11-M